DEPARTMENT OF THE INTERIOR

Bureau of Land Management

[WY-920-1320-EL, WYW155132]

Notice of Competitive Coal Lease Sale, Wyoming

AGENCY: Bureau of Land Management, Interior.

ACTION: Notice of Competitive Coal Lease Sale.

SUMMARY: Notice is hereby given that certain coal resources in the Eagle Butte West Coal Tract described below in Campbell County, WY, will be offered for competitive lease by sealed bid in accordance with the provisions of the Mineral Leasing Act of 1920, as amended (30 U.S.C. 181 et seq.).

DATES: The lease sale will be held at 10 a.m., on Wednesday, February 20, 2008. Sealed bids must be submitted on or before 4 p.m., on Tuesday, February 19, 2008.

ADDRESSES: The lease sale will be held in the First Floor Conference Room (Room 107C), of the Bureau of Land Management (BLM) Wyoming State Office, 5353 Yellowstone Road, P.O. Box 1828, Cheyenne, WY 82003. Sealed bids must be submitted to the Cashier, BLM Wyoming State Office, at the address given above.

FOR FURTHER INFORMATION CONTACT: Julie Weaver, Land Law Examiner, or Robert Janssen, Coal Coordinator, at 307-775-6260, and 307-775-6206, respectively.

SUPPLEMENTARY INFORMATION: This coal lease sale is being held in response to a lease by application (LBA) filed by RAG Coal West, Inc. RAG finalized the sale of the Eagle Butte Mine to Foundation Coal West, Inc., a directly held subsidiary of Foundation Coal Holdings, Inc. in August 2004. The coal resource to be offered consists of all reserves recoverable by surface mining methods in the following-described land located in northern Campbell County, approximately 4 miles north of Gillette and is crossed by U.S. Highway 14/16 along its eastern edge.

T. 51 N., R. 72 W., 6th P.M., Wyoming,

Section 19: Lots 13, 14, 19, and 20;

Section 20: Lots 10 (NW¼ and S½) and 11through 15;

Section 29: Lots 1 (W½), 2 through 7, 8 (W½ and SE¼), and 9 through 16;

Section 30: Lots 5, 6, 11 through 14, 19, and 20.

Containing 1,427.77 acres more or less.

The tract is adjacent to an existing Federal coal lease along the western boundary of the Eagle Butte Mine. It is adjacent to additional unleased Federal coal to the north, west, and south. All of the acreage offered has been determined to be suitable for mining since current plans include moving U.S. Highway 14/16. However, BLM has excluded approximately 80 acres along the northeastern portion of the tract from its economic analysis to provide a blasting buffer between the mining activity and existing residences. Other features such as pipelines, utilities, and Little Rawhide Creek can be relocated to permit coal recovery. In addition, oil and/or gas wells have been drilled on the tract. The estimate of the bonus value of the coal lease will include consideration of depletion and any future production from these wells. An economic analysis of any future income stream will determine whether a well is bought out and plugged prior to mining or re-established after mining is completed. The surface estate of the tract is owned by Foundation Coal West, Inc.

The tract contains surface mineable coal reserves primarily in the Wyodak seam with minor additions from up to four lower splits. The Wyodak is generally mined as two separate seams, the Roland and the Smith, in the area and on the LBA. The total coal thickness ranges from about 95-115 feet thick with the overburden thickness ranging from about 250-450 feet thick on the LBA. The tract contains approximately 255 million tons of mineable coal. This estimate of mineable reserves is primarily from the Roland and the Smith seams and does not include any tonnage from localized seams or splits containing less than 5 feet of coal. It does not include any tonnage from the existing, adjacent Federal coal lease although additional reserves are expected to be recovered in conjunction with the LBA once the highway is moved. The total mineable stripping ratio (BCY/Ton) of the LBA coal is about 2.9:1. Potential bidders for the LBA should consider the recovery rate expected from multiple seam mining.

The Eagle Butte West LBA coal is ranked as subbituminous C. The overall average quality on an as-received basis is 8434 BTU/lb with about 0.4% sulfur. These quality averages place the coal reserves near the lower end of the range of coal quality currently being mined in the Wyoming portion of the Powder River Basin.

The tract will be leased to the qualified bidder of the highest cash amount provided that the high bid meets or exceeds the BLM's estimate of the fair market value of the tract. The minimum bid for the tract is $100 per acre or fraction thereof. No bid that is less than $100 per acre, or fraction thereof, will be considered. The bids should be sent by certified mail, return receipt requested, or be hand delivered. The Cashier will issue a receipt for each hand-delivered bid. Bids received after 4 p.m., on Tuesday, February 19, 2008, will not be considered. The minimum bid is not intended to represent fair market value. The fair market value of the tract will be determined by the Authorized Officer after the sale. The lease issued as a result of this offering will provide for payment of an annual rental of $3.00 per acre, or fraction thereof, and of a royalty payment to the United States of 12.5 percent of the value of coal produced by strip or auger mining methods and 8 percent of the value of the coal produced by underground mining methods. The value of the coal will be determined in accordance with 30 CFR 206.250.

Bidding instructions for the tract offered and the terms and conditions of the proposed coal lease are available from the BLM Wyoming State Office at the addresses above. Case file documents, WYW155132, are available for inspection at the BLM Wyoming State Office.

Dated: January 11, 2008.
Larry Claypool,
Acting Deputy State Director, Minerals and Lands.

[FR Doc. E8-882 Filed 1-17-08; 8:45 am]

BILLING CODE 4310-22-P